FEDERAL RESERVE SYSTEM

Government in the Sunshine Meeting Notice

AGENCY HOLDING THE MEETING: Board of Governors of the Federal Reserve System.

TIME AND DATE: September 21, 2020 at 10:00 a.m.

PLACE: Virtual Webcast Meeting. The meeting is open to the public, but due to the current coronavirus pandemic, the public may observe this Board meeting via a live webcast on the Board's website.

STATUS: Open.

On the day of the meeting, you will be able to view the meeting via a live webcast from a link available on the Board's website. You do not need to register to view the webcast of the meeting. A link to the meeting documentation will also be available approximately 20 minutes before the start of the meeting. Both links may be accessed from the Board's website at www.federalreserve.gov.

For media inquiries, please call 202-452-2955. If you need an accommodation for a disability, please contact Penelope Beattie on 202-375-1103. For the hearing impaired only, please use the Telecommunication Device for the Deaf (TDD) on 202-263-4869.

MATTERS TO BE CONSIDERED:

Discussion Agenda

1. Advance Notice of Proposed Rulemaking on the Community Reinvestment Act Regulation.

The documentation package (staff memos to the Board and background materials) will be available on the Board's website approximately 20 minutes before the start of the meeting. Due to the current pandemic, no paper copies will be available.

A recording and electronic transcript of the meeting will be available after the meeting on the Board's website. http://www.federalreserve.gov/aboutthefed/boardmeetings/.

CONTACT PERSON FOR MORE INFORMATION: Michelle Smith, Director, or Susan Stawick, Sr. Media Relations Specialist, Division of Board Members at 202-452-2955.

You may access the Board's website at www.federalreserve.gov for an electronic announcement. (The website also includes procedural and other information about the open meeting.)

Dated: September 14, 2020.
Ann Misback,
Secretary of the Board.

[FR Doc. 2020-20591 Filed 9-15-20; 4:15 pm]

BILLING CODE 6210-01-P